DEPARTMENT OF JUSTICE

28 CFR Part 16

[AAG/A Order No. 236-2001]

Privacy Act of 1974; Implementation

AGENCY: Department of Justice.

ACTION: Final rule.

SUMMARY: The Department of Justice is exempting a Privacy Act System of records for subsections (c)(3), and (4), (d), (e)(1), (2), and (3), (e)(4)(G) and (H), (e)(5) and (8), and (g) of the Privacy act, 5 U.S.C. 552a. This system of records is maintained by the Immigration and Naturalization Service (INS) and is entitled “National Automated Immigration Lookout System (NAILS), JUSTICE/INS-032.”

The NAILS system facilitates INS in its inspection and investigation process. The automated system provides quick and easy retrieval of biographical or case data on persons who may be either inadmissible to the United States, or of interest to other Federal agencies.

The exemptions are necessary to avoid interference with law enforcement operations. Specifically, the exemptions are necessary to prevent subjects of investigations from frustrating the investigatory or other law enforcement process such as, deportation/removal proceedings.

EFFECTIVE DATE: This final rule is effective July 5, 2001.

FOR FURTHER INFORMATION CONTACT: Mary Cahill—(202) 307-1823.

SUPPLEMENTARY INFORMATION: On April 4, 2001 (66 FR 17828) a proposed rule was published in the Federal Register with an invitation to comment. The INS accepted three comments on the proposed rule from interested parties on or before April 13, 2001. One commenter expressed support for the proposed rule. Two commenters believed that exceptions were being made to the Privacy Act. No exceptions were being made to the Privacy Act. As in the proposed rule, the final rule specifically states that exemptions will apply only to the extent that information in the system is subject to exemption. The INS cited the same exemptions for law enforcement records as any other agency that has law enforcement functions. The exemptions are warranted and do not make exceptions that may violate the Privacy Act.

This order relates to individuals rather than small business entities. Nevertheless, pursuant to the requirements of the Regulatory Flexibility Act 5 U.S.C. 601-612, it is hereby stated that the order will not have “a significant economic impact on a substantial number of small entities.”

List of Subjects in 28 CFR Part 16

Administrative Practices and Procedures, Courts, Freedom of Information Act, Government in the Sunshine Act, and the Privacy Act.

Pursuant to the authority vested in the Attorney General by 5 U.S.C. 552a and delegated to me by Attorney General Order No. 793-78, Title 28 of the Code of Federal Regulations, part 16 is amended as set forth below.

PART 16—[AMENDED]

1. The authority for part 16 continues to read as follows:

Authority: 5 U.S.C. 301, 552, 552a, 552b(g), 553; 18 U.S.C. 4203(a)(1); 28 U.S.C. 509, 510, 534, 31 U.S.C. 3717.

2. 28 CFR 16.99 is amended by adding paragraph (a)(3) to read as follows:

§ 16.99 Exemption of the Immigration and Naturalization Service System-limited access.

* * * * *

(a) * * *

(3) The Immigration and Naturalization Service “National Automated Immigration Lookout System (NAILS) JUSTICE/INS-032.” The exemptions apply only to the extent that records in the system are subject to exemptions pursuant to 5 U.S.C. 552a(j)(2) and (k)(2).

* * * * *

Dated: June 21, 2001.
Janis A. Sposato,
Acting Assistant Attorney General for Administration.

[FR Doc. 01-16824 Filed 7-3-01; 8:45 am]

BILLING CODE 4410-10-M